DEPARTMENT OF TRANSPORTATION

Federal Aviation Administration

14 CFR Part 39

[Docket No. FAA-2006-25670; Directorate Identifier 2006-NM-027-AD]

RIN 2120-AA64

Airworthiness Directives; Airbus Model A300 B2 and B4 Series Airplanes

AGENCY: Federal Aviation Administration (FAA), Department of Transportation (DOT).

ACTION: Notice of proposed rulemaking (NPRM).

SUMMARY: The FAA proposes to adopt a new airworthiness directive (AD) for certain Airbus Model A300 B2 and B4 series airplanes. This proposed AD would require revising the airplane flight manual (AFM) to include procedures for resetting the trim and pitch trim levers after each landing, determining which servomotor moves the pitch trim control wheel, and doing applicable other specified actions. This proposed AD also provides for optional terminating actions for those requirements. This proposed AD results from a report of a sudden nose-up movement after disengagement of the autopilot in cruise. We are proposing this AD to ensure that the flightcrew is aware of the procedures for resetting the trim and pitch trim levers after each landing and to prevent failure of the servomotors of the pitch trim systems during flight. Failure of the servomotors of the pitch trim systems could result in uncommanded nose-up movement of the control surface of the pitch trim systems after disengagement of the autopilot in cruise.

DATES: We must receive comments on this proposed AD by September 22, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Thomas Stafford, Aerospace Engineer, International Branch, ANM-116, Transport Airplane Directorate, FAA, 1601 Lind Avenue, SW., Renton, Washington 98055-4056; telephone (425) 227-1622; fax (425) 227-1149.

SUPPLEMENTARY INFORMATION:

Comments Invited

We invite you to submit any relevant written data, views, or arguments regarding this proposed AD. Send your comments to an address listed in the ADDRESSES section. Include the docket number “FAA-2006-25670; Directorate Identifier 2006-NM-027-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for France, notified us that an unsafe condition may exist on certain Airbus Model A300 B2 and B4 series airplanes. The DGAC advises that a sudden nose-up movement after disengagement of the autopilot in cruise occurred on a Model A300 airplane. At the time of the incident, the first pitch trim system (pitch trim 1) was inoperative before the flight and the second pitch trim system (pitch trim 2) had tripped. During the resulting investigation, the manufacturer identified a failure mode of the servomotors of the pitch trim systems as the cause of the incident. This condition, if not corrected, could result in uncommanded nose-up movement of the control surface of the pitch trim systems after disengagement of the autopilot in cruise.

Relevant Service Information

Airbus has issued Temporary Revision (TR) 4.03.00/04, Issue 02, dated November 18, 2003, to the A300 Airplane Flight Manual (AFM). The TR describes a procedure for the flightcrew to follow after each landing of the airplane. The procedure involves resetting the trim and pitch trim. This procedure is to be inserted into the Normal Procedures section of the AFM.

Airbus also has issued TR No. 22-001, dated April 11, 2003, of Chapter 22-23-00 of Airbus A300 Fault Isolation Manual. The TR describes procedures for determining which servomotor moves the pitch trim control wheel and doing applicable other specified actions. The applicable other specified actions involve replacing one or both servomotors of the pitch trim systems with new servomotors or dispatching the airplane with both servomotors deactivated in accordance with the Master Minimum Equipment List (MMEL).

In addition, Airbus issued Service Bulletin A300-22-0119, dated May 13, 2005. The service bulletin describes optional procedures for replacing the pitch trim servomotors in the attachment area of the horizontal and vertical stabilizers with new servomotors. The service bulletin refers to Thales Service Bulletin V1AM-22-005, Revision 01, dated July 27, 2005, as an additional source of service information for doing the replacement.

Further, Airbus issued Service Bulletin A300-22-0120, dated May 13, 2005. The service bulletin describes procedures for repetitive preventative maintenance tasks of any pitch trim servomotor replaced in accordance with Service Bulletin A300-22-0119. The service bulletin refers to Thales Service Bulletin V1AM-22-006, Revision 01, dated July 26, 2005, as an additional source of service information for doing the preventative maintenance task.

Accomplishing the actions specified in the service information is intended to adequately address the unsafe condition. The DGAC mandated Airbus TR 4.03.00/04, Airbus TR No. 22-001, and Airbus Service Bulletin A300-22-0120 for any pitch trim servomotor replaced in accordance with Airbus Service Bulletin A300-22-0119. In addition, the DGAC mandated incorporation of Airbus TR No. 1.22/01Z, Revision 2, into the MMEL. The DGAC also issued French airworthiness directives F-2003-291 R1, dated July 6, 2005, and F-2005-109, dated July 6, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of this type design that are certificated for operation in the United States.

Therefore, we are proposing this AD, which would require accomplishing the actions specified in Airbus TR 4.03.00/04, Airbus TR No. 22-001, and Airbus Service Bulletin A300-22-0120 for any pitch trim servomotor replaced in accordance with Airbus Service Bulletin A300-22-0119, as described previously.

Clarification Between the Proposed AD and French Airworthiness Directive F-2003-291 R1

Although the French airworthiness directive F-2003-291 R1 mandates incorporation of Airbus TR No. 1.22/01Z, Revision 2, into the MMEL, this proposed AD does not include that requirement. The procedures specified in Airbus TR No. 1.22/01Z have already been incorporated into the MMEL for the U.S. fleet.

Costs of Compliance

The following table provides the estimated costs for U.S. operators to comply with this proposed AD. The average labor rate per hour is $80.

Estimated Costs
Action | Work hours | Parts | Cost per airplane | Number of U.S.-registered airplanes | Fleet cost
AFM revision | 1 | None | $80 | 23 | $1,840.
Determination if pitch trim control wheel moves | 1 | None | $80 | 23 | $1,840.
Optional replacement | 3 | $264 | $504 | 23 | $11,592.
Optional repetitive preventative maintenance tasks | 3 | None | $240, per task cycle | 23 | $5,520, per task cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-25670; Directorate Identifier 2006-NM-027-AD.

Comments Due Date

(a) The FAA must receive comments on this AD action by September 22, 2006.

Affected ADs

(b) None.

Applicability

(c) This AD applies to all Airbus Model A300 airplanes; certificated in any category; except the following airplanes:

(1) Model A300 B4-220, A300 B4-203, and A300 B2-203 airplanes in a forward facing crew cockpit certified configuration;

(2) Model A300 B4-601, B4-603, B4-620, and B4-622 airplanes;

(3) Model A300 B4-605R and B4-622R airplanes;

(4) Model A300 F4-605R and F4-622R airplanes; and

(5) Airbus Model A300 C4-605R Variant F airplanes.

Unsafe Condition

(d) This AD results from a report of a sudden nose-up movement after disengagement of the autopilot in cruise. We are issuing this AD to ensure that the flightcrew is aware of the procedures for resetting the trim and pitch trim levers after each landing and to prevent failure of the servomotors of the pitch trim systems during flight. Failure of the servomotors of the pitch trim systems could result in uncommanded nose up movement of the control surface of the pitch trim systems after disengagement of the autopilot in cruise.

Compliance

(e) You are responsible for having the actions required by this AD performed within the compliance times specified, unless the actions have already been done.

Revision of Airplane Flight Manual (AFM)

(f) Within 14 days after the effective date of this AD, revise the Normal Procedures section of the Airbus A300 AFM to include the information in Airbus A300 Temporary Revision (TR) 4.03.00/04, Issue 02, dated November 18, 2003, as specified in the TR.

Note 1: This may be done by inserting a copy of TR 4.03.00/04, Issue 02, in the AFM. When the TR has been included in the general revisions of the AFM, the general revisions may be inserted in the AFM, provided the relevant information in the general revision is identical to that in the TR.

Determination if Pitch Trim Control Wheel Moves

(g) Following accomplishment of the AFM revision required by paragraph (f) of this AD: After each landing and before shutting down the engines, do the AFM procedures specified in Airbus A300 TR 4.03.00/04, Issue 02, dated November 18, 2003.

Determination if Servomotor Moves

(h) Before further flight after any movement reported in accordance with paragraph (g) of this AD, determine which servomotor moves the pitch trim control wheel, and do applicable other specified actions in accordance with Airbus TR No. 22-001, dated April 11, 2003, of Chapter 22-23-00 of Airbus A300 Fault Isolation Manual.

Note 2: Airbus TR No. 22-001 contains a typographical error. The TR incorrectly refers to “MM 22-23-39” as the appropriate source of service information for replacing the pitch trim actuator; the correct reference is “MM 22-23-29.”

Optional Replacement of the Pitch Trim Servomotors

(i) Replace the pitch trim servomotors in the attachment area of the horizontal and vertical stabilizers with new servomotors, in accordance with the Accomplishment Instructions of Airbus Service Bulletin A300-22-0119, dated May 13, 2005.

Note 3: Airbus Service Bulletin A300-22-0119, dated May 13, 2005, refers to Thales Service Bulletin V1AM-22-005, Revision 01, dated July 27, 2005, as an additional source of service information for doing the replacement.

Repetitive Preventative Maintenance Tasks

(j) Within 12,000 flight hours after replacing one or both servomotors in accordance with paragraph (h) or (i) of this AD, or within 6 months after the effective date of this AD, whichever occurs later, do the preventative maintenance task of the pitch trim servomotor(s), in accordance with the Accomplishment Instructions of Airbus Service Bulletin A300-22-0120, dated May 13, 2005. Repeat the preventative maintenance task thereafter at intervals not to exceed 12,000 flight hours.

Note 4: Airbus Service Bulletin A300-22-0120, dated May 13, 2005, refers to Thales Service Bulletin V1AM-22-006, Revision 01, dated July 26, 2005, as an additional source of service information for doing the preventative maintenance task.

Removal of AFM Revision

(k) After accomplishing the actions specified in paragraph (i) and the initial task in paragraph (j) of this AD, the AFM revision required by paragraph (f) of this AD may be removed, and the requirements of paragraphs (g) and (h) of this AD are no longer required.

No Reporting

(l) Although Airbus Service Bulletin A300-22-0120 specifies to submit certain information to the manufacturer, this AD does not include that a requirement.

Alternative Methods of Compliance (AMOCs)

(m)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(n) French airworthiness directives F-2003-291 R1, issued July 6, 2005, and F-2005-109, issued July 6, 2005, also addresses the subject of this AD.

Issued in Renton, Washington, on August 15, 2006.
Kalene C. Yanamura,
Acting Manager, Transport Airplane Directorate, Aircraft Certification Service.

[FR Doc. E6-13964 Filed 8-22-06; 8:45 am]

BILLING CODE 4910-13-P